DEPARTMENT OF HEALTH AND HUMAN SERVICES

Centers for Disease Control and Prevention

Notice of Re-Establishment of the Advisory Committee to the Director

Pursuant to Section 222 of the Public Health Service Act (42 U.S.C. 217a), as amended and the Federal Advisory Committee Act, as amended (5 U.S.C. App), the Director, Centers for Disease Control and Prevention (CDC), announces the re-establishment of the Advisory Committee to the Director, Centers for Disease Control and Prevention.

The Secretary, Department of Health and Human Services (HHS) and by delegation, the Director, CDC, are authorized under Sections 301 and 311 of the Public Health Service Act, [42 U.S.C. Sections 241 and 243], as amended to: (1) Conduct, encourage, cooperate with, and assist other appropriate public authorities, scientific institutions, and scientists in the conduct of research, investigations, experiments, demonstrations, and studies relating to the causes, diagnosis, treatment, control, and prevention of physical and mental diseases, and other impairments; (2) assist States and their political subdivisions in the prevention of infectious diseases and other preventable conditions, and in the promotion of health and well-being; and (3) train State and local personnel in health work. The ACD, CDC, shall advise the Secretary, HHS, and the Director, CDC, on policy and broad strategies that will enable CDC to fulfill its mission of protecting health through health promotion, prevention, and preparedness.

For information, contact Tiffany J. Brown, JD, MPH, Acting Deputy Chief of Staff, Office of the Director, Centers for Disease Control and Prevention, 1600 Clifton Road NE, Mail Stop H21-10, Atlanta, GA 30329-4027, telephone (404) 498-6655; TJBrown@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-06644 Filed 3-30-21; 8:45 am]

BILLING CODE 4163-18-P